DEPARTMENT OF AGRICULTURE

Forest Service

Missoula County Resource Advisory Committee

AGENCY: Forest Service, USDA.

ACTION: Notice of Meeting.

SUMMARY: The Lolo National Forest's Missoula County Resource Advisory Committee (RAC) will meet on Thursday, October 14, 2010 from 4 p.m. to 6 p.m., in Missoula, Montana. The purpose of the meeting is to review and vote on submitted proposals, and receive public comment on the meeting subjects and proceedings.

DATES: Thursday, October 14, 2010 from 4 p.m. to 6 p.m.

ADDRESSES: Missoula County Courthouse, Room 201; 200 W. Broadway, Missoula, MT 59802.

FOR FURTHER INFORMATION CONTACT: Boyd Hartwig; Address: Lolo National Forest, Building 24A Fort Missoula, Missoula, Montana 59804; Phone: 406-329-1024; e-mail: bchartwig@fs.fed.us.

SUPPLEMENTARY INFORMATION: Agenda items to be covered include: (1) Review of individual member proposal rankings; (2) brief discussion of proposals; (3) vote on proposals in order of ranking; (4) receive public comment; (5) review old business. There will be an open comment period for the public at the start of the meeting.

Dated: August 18, 2010.
Paul Matter,
Missoula District Ranger.

[FR Doc. 2010-21189 Filed 8-25-10; 8:45 am]

BILLING CODE 3410-11-P